DEPARTMENT OF THE INTERIOR

Bureau of Land Management

[LLIDC000000.16XL1109AF.L11200000.MR0000.241A.00; 4500093609]

Notice of Public Meeting, Coeur d'Alene District Resource Advisory Council, Idaho

AGENCY: Bureau of Land Management, Interior.

ACTION: Notice of public meetings.

SUMMARY: In accordance with the Federal Land Policy and Management Act (FLPMA), the Federal Advisory Committee Act of 1972 (FACA), and the Federal Lands Recreation Enhancement Act of 2004 (FLREA), the U.S. Department of the Interior, Bureau of Land Management (BLM) Coeur d'Alene District Resource Advisory Council (RAC) will meet as indicated below.

DATES: The Coeur d'Alene District RAC will meet July 7, 2016, at the Coeur d'Alene District Office, 3815 Schreiber Way, Coeur d'Alene, ID 83815. The meeting will begin at 9:00 a.m. and end no later than 4:00 p.m. The public comment period will take place from 1:00 p.m. until 1:30 p.m.

FOR FURTHER INFORMATION CONTACT: Suzanne Endsley, Coeur d'Alene District, Idaho, 3815 Schreiber Way, Coeur d'Alene, Idaho 83815, (208) 769-5004.

SUPPLEMENTARY INFORMATION: The 15-member RAC advises the Secretary of the Interior, through the Bureau of Land Management, on a variety of planning and management issues associated with public land management in Idaho. The meeting agenda will include updates from the Cottonwood and Coeur d'Alene Field Offices; presentations on hazardous fuels reduction and forestry projects; overviews of improvements planned at various recreation sites and general district project information. Additional agenda topics or changes to the agenda will be announced in local press releases. More information is available at http://www.blm.gov/id/st/en/get_involved/resource_advisory/coeur_d_alene_district.htmlRAC meetings are open to the public. The public may present written comments to the Council. Each formal Council meeting will also have time allocated for hearing public comments. Depending on the number of persons wishing to comment and time available, the time for individual oral comments may be limited. Individuals who plan to attend and need special assistance, such as sign language interpretation or other reasonable accommodations, should contact the BLM as provided below.

FOR FURTHER INFORMATION CONTACT: Suzanne Endsley, RAC Coordinator, Coeur d'Alene District, 3815 Schreiber Way, Coeur d'Alene, ID 83815. Telephone: (208) 769-5004. Email: sendsley@blm.gov.

Authority: 43 CFR 1784.4-1.

Dated: May 26, 2016.
Linda Clark,
BLM Coeur d'Alene District Manager.

[FR Doc. 2016-13371 Filed 6-6-16; 8:45 am]

BILLING CODE 4310-GG-P